DEPARTMENT OF DEFENSE

Department of the Army

[Docket ID: USA-2023-HQ-0007]

Submission for OMB Review; Comment Request

AGENCY: U.S. Army Corps of Engineers (USACE), Department of the Army, Department of Defense (DoD).

ACTION: 30-Day information collection notice.

SUMMARY: The DoD has submitted to the Office of Management and Budget (OMB) for clearance the following proposal for collection of information under the provisions of the Paperwork Reduction Act.

DATES: Consideration will be given to all comments received by July 21, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: Stakeholder and Community Coastal Storm Hazard Surveys; OMB Control Number 0710-CCFR.

Type of Request: New.

Number of Respondents: 3,050.

Responses per Respondent: 1.

Annual Responses: 3,050.

Average Burden per Response: 30 minutes.

Annual Burden Hours: 1,525.

Needs and Uses: Information from the surveys described here is needed to support research that was appropriated in the Consolidated Appropriations Act, 2021 (Pub. L. 116-260). In the explanatory statement on Division D of the Act, Energy and Water Development and Related Agencies Appropriations Act, 2021, the Regional Sediment Management program was appropriated additional funding to address research and development for compound coastal flooding to “enhance the resiliency of coastal communities and mitigate socioeconomic and environmental consequences of extreme coastal hazards.” This includes funds provided to support cooperative efforts between the Corps and academia to address compound flooding issues. The explanatory statement can be accessed at the following link: https://www.govinfo.gov/content/pkg/CREC-2020-12-21/pdf/CREC-2020-12-21-house-bk4.pdf. This Congressional funding resulted in a $5 million joint effort between the U.S. Army Corps of Engineers—Engineer Research and Development Center (ERDC) and the University of Alabama under the Cooperative Agreement “Coastal Compound Flooding under Uncertainties: Physically-based and Data Driven Modeling Framework.” Research tasks 9 and 10 of this cooperative agreement seek to address the Congressional directive to connect enhanced flood forecasting with community resilience.

This research effort seeks to inform improved modeling of compound coastal storm events, including improved simulation of impacts to communities and of protective action-taking. The proposed tasks contained in the Broad Agency Agreement with the University of Alabama seek to identify effective flood risk communication tools that influence coastal residents' risk mitigation actions and to better understand key community stakeholder communication of hazards. Execution of these tasks requires the University of Alabama Principal Investigator and research team to gather information through three community and stakeholder surveys. Findings from their analysis will inform coastal storm hazard modeling and risk communication for better outcomes from storm events, meeting the Appropriations Bill directive described above.

Affected Public: Individuals or households.

Frequency: One-time collection.

Respondent's Obligation: Voluntary.

OMB Desk Officer: Mr. Matthew Oreska.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: June 13, 2023.
Aaron T. Siegel,
Alternate OSD Federal Register Liaison Officer, Department of Defense.

[FR Doc. 2023-13101 Filed 6-20-23; 8:45 am]

BILLING CODE 5001-06-P